DEPARTMENT OF DEFENSE

Office of the Secretary

TRICARE, Formerly Known as the Civilian Health and Medical Program of the Uniformed Services (CHAMPUS); Fiscal Year (FY) 2009 Mental Health Rate Updates

AGENCY: Department of Defense.

ACTION: Notice of updated mental health rates for FY 2009.

SUMMARY: This notice provides the updated regional per diem rates for low volume mental health providers; the update factor for hospital-specific per diems; the updated cap per diem for high-volume providers; the beneficiary per diem cost share amount for low-volume providers; and, the updated per diem rates for both full-day and half-day TRICARE Partial Hospitalization Programs for FY 2009.

DATES: Effective Date: The FY 2009 rates contained in this notice are effective for services on or after October 1, 2008.

FOR FURTHER INFORMATION CONTACT: Ann N. Fazzini, Medical Benefits and Reimbursement Branch, TRICARE Management Activity, telephone (303) 676-3803.

SUPPLEMENTARY INFORMATION: The final rule published in the Federal Register on September 6, 1988, (53 FR 34285) set forth reimbursement changes that were effective for all inpatient hospital admissions in psychiatric hospitals and exempt psychiatric units occurring on or after January 1, 1989. The final rule published in the Federal Register on July 1, 1993 (58 FR 35-400), set forth maximum per diem rates for all partial hospitalization admissions on or after September 29, 1993. Included in these final rules were provisions for updating reimbursement rates for each federal fiscal year. As stated in the final rules, each per diem shall be updated by the Medicare update factor for hospitals and units exempt from the Medicare Prospective Payment System (i.e., the update factor for inpatient psychiatric facilities). For FY 2009, Medicare has recommended a rate of increase of 3.2 percent. TRICARE will adopt this update factor for FY 2009 as the final update factor. Hospitals and units with hospital specific rates (hospitals and units with high TRICARE volume) and regional specific rates for psychiatric hospitals and units with low TRICARE volume will have their TRICARE rates for FY 2008 updated by 3.2 percent for FY 2009. Partial hospitalization rates for full-day and half-day programs will also be updated by 3.2 percent for FY 2009. The cap amount for high-volume hospitals and units will also be updated by the 3.2 percent for FY 2009. The beneficiary cost share for low volume hospitals and units will also be updated by 3.2 percent for FY 2009.

Per Title 32, Code of Federal Regulations (CFR), Part 199.14, the same area wage indexes used for the CHAMPUS DRG-based payment system shall be applied to the wage portion of the applicable regional per diem for each day of the admission. The wage portion shall be the same as that used for the CHAMPUS DRG-based payment system. For wage index values greater than 1.0, the wage portion of the regional rate subject to the area wage adjustment is 69.7 percent for FY 2009. For wage index values less than or equal to 1.0, the wage portion of the regional rate subject to the area wage adjustment is 62 percent. Additionally, Title 32, CFR Part 199.14, requires that hospital specific and regional per diems shall be updated by the Medicare update factor for hospitals and units exempt from the Medicare prospective payment system.

The following reflect an update of 3.2 percent for FY 2009.

Regional Specific Rates for Psychiatric Hospitals and Units With Low TRICARE Volume for Fiscal Year 2009
United States Census Region | Regional rate
Northeast:
New England | $730
Mid-Atlantic | 703
Midwest:
East North Central | 607
West North Central | 573
South:
South Atlantic | 723
East South Central | 774
West South Central | 659
West:
Mountain | 658
Pacific | 778
Puerto Rico | 496

Beneficiary cost share: Beneficiary cost-share (other than dependents of Active Duty members) for care paid on the basis of a regional per diem rate is the lower of $193 per day or 25 percent of the hospital billed charges effective for services rendered on or after October 1, 2008.

Cap Amount: Updated cap amount for hospitals and units with high TRICARE volume is $917 per day for FY 2009.

The following reflect an update of 3.2 percent for FY 2009.

Partial Hospitalization Rates for Full-Day and Half-Day Programs
[Fiscal year 2009]
United States Census Region | Full-day rate (6 hours or more) | Half-day rate (3-5 hours)
Northeast:
New England (Maine, N.H., Vt., Mass., R.I., Conn.) | $293 | $221
Mid-Atlantic:
(N.Y., N.J., Penn.) | 318 | 239
Midwest:
East North Central (Ohio, Ind., Ill., Mich., Wis.) | 280 | 209
West North Central:
(Minn., Iowa, Mo., N.D., S.D., Neb., Kan.) | 280 | 209
South:
South Atlantic (Del., Md., D.C., Va., W.Va., N.C., S.C., Ga., Fla.) | 301 | 226
East South Central:
(Ky., Tenn., Al., Miss.) | 325 | 245
West South Central:
(Ark., La., Texas, Okla.) | 325 | 245
West:
Mountain (Mon., Idaho, Wyo., Col., N.M., Ariz., Utah, Nev.) | 328 | 248
Pacific (Wash., Ore., Calif., Alaska, Hawaii) | 322 | 241
Puerto Rico | 209 | 158

The above rates are effective for services rendered on or after October 1, 2008.

Dated: November 4, 2008.
Patricia L. Toppings,
OSD Federal Register Liaison Officer, Department of Defense.

[FR Doc. E8-26759 Filed 11-10-08; 8:45 am]

BILLING CODE 5001-06-P